DEPARTMENT OF JUSTICE

[OMB Number 1122-0027]

Agency Information Collection Activities; Extension of Previously Approved eCollection eComments Requested; Semiannual Progress Report for Grantees From the Engaging Men and Youth Program

AGENCY: Office on Violence Against Women, Department of Justice.

ACTION: 30-day notice.

SUMMARY: The Department of Justice (DOJ), Office on Violence Against Women, will be submitting the following information collection request to the Office of Management and Budget (OMB) for review and approval in accordance with the Paperwork Reduction Act of 1995.

DATES: Comments are encouraged and will be accepted for 30 days until February 10, 2025.

FOR FURTHER INFORMATION CONTACT: If you have comments especially on the estimated public burden or associated response time, suggestions, or need a copy of the proposed information collection instrument with instructions or additional information, please contact: Catherine Poston, Office on Violence Against Women, at 202-514-5430 or Catherine.poston@usdoj.gov.

SUPPLEMENTARY INFORMATION: The proposed information collection was previously published in the Federal Register on November 5, 2024 (89 FR 87891) allowing a 60-day comment period.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1122-0027. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a previously approved collection.

2. The Title of the Form/Collection: Semiannual Progress Report for Grantees from the Engaging Men Program.

3. The agency form number, if any, and the applicable component of the Department sponsoring the collection: 1122-0027.

4. Affected public who will be asked or required to respond, as well as the obligation to respond: Grantees from the Engaging Men and Youth Program. The affected public includes the approximately 8 grantees of the CYEM Program who are implementing engaging men and youth projects. The CYEM Program creates a unique opportunity for communities to increase collaboration among non-profit victim service providers, violence prevention programs, and child and youth organizations serving victims ages 0-24. Additionally, it supports organizations and programs that promote boys' and men's role in combating violence against women and girls. Eligible applicants are nonprofit, nongovernmental entities, Indian tribes or tribal nonprofit organizations, and territorial, tribal or unit of local government entities.

5. An estimate of the total number of respondents and the amount of time estimated for an average respondent to respond: It is estimated that it will take the approximately 8 respondents (grantees from the CYEM Program who are implementing engaging men and youth projects) approximately one hour to complete a semi-annual progress report. The semi-annual progress report is divided into sections that pertain to the different types of grantee activities.

6. An estimate of the total annual burden (in hours) associated with the collection: The total annual hour burden to complete the data collection forms is 16 hours, that is 8 grantees completing a form twice a year with an estimated completion time for the form being one hour.

7. The total annual hour burden to complete the data collection forms is 16 hours, that is 8 grantees completing a form twice a year with an estimated completion time for the form being one hour.

8. An estimate of the total annual cost burden associated with the collection, if applicable: The annualized costs to the Federal Government resulting from the OVW staff review of the progress reports submitted by grantees are estimated to be 9.

Total Burden Hours
Activity | Number of respondents | Frequency (semiannually) | Total annual responses | Time per response (hours) | Total annual burden (hours)
Progress Report Form | 8 | 2 | 16 | 1 | 16
Unduplicated Totals | 8 |  | 16 |  | 16

If additional information is required contact: Darwin Arceo, Department Clearance Officer, United States Department of Justice, Justice Management Division, Policy and Planning Staff, Two Constitution Square, 145 N Street NE, 4W-218, Washington, DC.

Dated: December 31, 2024.
Darwin Arceo,
Department Clearance Officer for PRA, U.S. Department of Justice.

[FR Doc. 2024-31778 Filed 1-8-25; 8:45 am]

BILLING CODE 4410-FX-P